DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending March 31, 2022. For purposes of this listing, long-term residents, as defined in section 877(e)(2), are treated as if they were citizens of the United States who lost citizenship.

Last name | First name | Middle name/initials
ABERCROMBIE | JOHN | N
ABEYGUNAWARDANA | SHIHAN | C
ABHISHEK | FNU |
ADAM | LESLEY | E
ADAMS | JOHN | R
ADVANI | ABHISHEK | PASHUPATI
ALAYOUBI | ABDULFATAH | M
ALBERTI | CHRISTIAN | P
ALHARBI | ABDULLAH | SAUD
ALKINS | BRIGITTE |
AMARAL | ALLAN |
AMOEDO | NOELIA |
ANDERSON | DAVID | A
ANDERSON | ELKE |
ANDERSON | ROBERT | E
ARBID | RAMI |
ASAHINA | MAKI |
ASHTON | RICHARD | I
ASTLE | LYNN | S
BA | SOULEYMANE | M
BAIRLE | CHANTAL | I
BAKSH | EYAL |
BALLENGER | EMMA | LOUISE
BAO | JIE |
BARDE | BARBARA | ANN
BARMECHA | RAKESH |
BAUMANN | MIWA | ESTELLE
BELL | MICHAEL |
BENEDICTSSON | ANNE | MARIE
BENN | ERIC | C
BENNETT | MARIE |
BETTENCOURT | JOAO | BAPTISTA
BEYLIER BEURTON | VERONIQUE | MADELEINE
BIEGER | JACQUELINE | JUNE
BLACLARD | PIERRE | P
BLAIR | DEBORAH | C
BLOK | RIEUWERT |
BLOK | RONALD |
BLUM | MICHAEL |
BOBILLO | ANDREA |
BOGUSZ | IRENA | KRYSTYNA
BONGAERTS | BIANCA | ELINE
BORROMEO | PAOLO | MAXIMO F
BOSCHMANS | PETER | KAREL
BOURDON | NATHALIE | M
BOURQUE | LINUS | CLAUDE
BOUVIER | PASCAL | GEORGES
BRANDER | CAROLINE | SARAH
BRANGER | GREGOIRE | JEAN MARIE
BREMNESS | NADA | GAY
BRENDEL-EVAN | SILKE |
BRIENZ | DEBORAH | D
BROWN | LISA | YILDIZ
BROWNLEE | EUAN | JAMES
BRUCKMANN | CAROLINE | LOUISE
BSEISU | ASHRAF | A
BUCHHOLZ | TIM |
BURLEY | KUMIKO | Y
BURTNIK | ANGELA | LILLIAN
BUSSAT | JULIEN |
BUTERA | SALVATORE | PAOLO
CAESAR | ROHAN | CRANE
CALATO | MARIA-ANNA | LUISE
CAMPBELL | ANDREW | JAMES
CARR | DAVID |
CARTER | JULIE |
CHAN | CHRISTOPHER | LAP BUN
CHANG | WAYNE |
CHAUHAN | CHETANYA | SHANTILAL
CHEN | TERENCE | B N
CHENG | HOI | LAM
CHEW | JIN | YANG
CHO | SE | HYOUNG
CHO | YONG-HOON |
CHOI | HYOSUNG |
CHOI | JUNG | HWAN
CHOI | KYONGSUN |
CHON | HAEWON |
CHU | SHIOU-YEN |
CHUN | YOUNGSAM |
CLARK | MICHAELA | TESS
CLARK III | THEODORE | CHARLES
CLUEIT | GARY | RAYMOND
CLUEIT | SUSAN | MARY
COHEN | RONEN |
COLBORN | JAMES | E
COLLIN-DUFRESNE | PIERRE | K
COLUSSI | GIAN | DONATO
COMI | AILEEN | CHRISTYN
CONNOLLY | DANIEL | THOMAS
COOKES | KRISTIAN | M
COOPER | DAVID | DALE
CORK | HOWARD | ERIC
CORROCHANO | EDGARD |
COTTERILL | BRUCE | RICHARD
COTTERILL | PHEBE | LOUISA
COUTTS | KEREN | ANNA
COUTU | BERNARD | T
CREA | LORRAINE | PATRICIA
CROMBEEN | JANET | ELIZABETH
CROMWELL-AHRENS | CHRISTINE |
CUI | AIDI |
CUNLIFFE | JANICE | ANGELA
CUNLIFFE | SARAH | JAYNE
DAGAN | NIR |
DAHAN | MARIE | LURE
DAI | PEIHONG |
DALBOKOVA | SVETLA | IVANOVA
DALLAL | ROBERT | SALMAN
D'AMBROSIO | ALEXANDRE | S
DAMOISEAUX | LUKE | LEONARD
DART | COLIN | STEPHEN
DAVID | BEN |
DAVID | DANIEL |
DE JONG | DAVID | THEODOOR
DEAN | JANET | DENISE
DEAN | PAUL | ANTHONY
DEBALEAU | PAULA | MARIE
DEN HEETEN | KARIN | E
DEVJANI | JYOTI | RAHUL
DEVJANI | RAHUL | TIRATH
DONALD | SUSAN | VAILA
DUCHARME | YVES |
DYSON | SACHIKO | O
DZIURAWIEC | SUZANNE |
EARLY | ROBIN | KENNETH
EGOROVA | MARINA | NA
EILERS THOMES | JONI | COLLEEN
ELLFOLK | KARL | ROGER
ENSBERG | PETER |
ETO | MASUMI |
FARNER | NATHALIE | MARIE HELENE
FAUDON | PATRICK | MICHAEL ERICH
FISCHER | MAARTEN | MICHIEL
FLENK | BENJAMIN | JAMES
FLEURY | NICOLE | ANGELE MARIE-THERESE MONTAVILLE
FLORES VAN ONLANGS | MIRYAM | VERONICA
FOO | MAO | CHING
FORD | CHERYL | LYNNE
FORSSEN | BJORN | HENRY
FOX | THELMA | MAE
FRASCO | TONI | SUZANNE
FRECHETTE | CORINE |
FREUND | DOV | ABRAHAM
FRY | SHINOBU |
FTAYA | SARAH | MARGARET
FULLER | MAXWELL | JAMES
FUNATSUBO | FUMIKO |
GAJULAPALLE | NAVEEN | KUMAR
GALLAGHER | CATHERINE | MOYRA
GALLIMORE-SOARES DE JESUS | MARY | KATE
GENZO | LISE | MAREE
GEORGI | ROBERT | EDWARD JAY
GIULIANI | EDWARD |
GLEISER | VIKTORIA |
GOEPFERT | MARIO |
GONSALVES | ANTHONY | OLIVER
GOOD | ELLEN | L SHEARER
GOSS | TRACY | GRANT
GOUW | DONINDA | ANN
GRIFFITHS | DYLAN |
GUENTHER | LISA | NOELLE
GUZMAN RODRIUEZ | BLANCA |
HADDEN | KELLY | ANN
HAGEGARD | LENNART | OSKAR
HAGENBUCH | JOERG |
HALL | EVELYN | A
HAMPSON | CHRISTOPHER | CHARLES
HANZ | HEIKE | MARIA
HARDING | CHRISTINE | RUTH
HARKNESS | DAWN | PATRICIA
HARRIES | CHRISTOPHER | JOHN
HARROLD | GLORIA | THELMA
HATCHER | KATHY | JANE
HAUG | JOCHEN | ALEXANDER
HAY | JONATHAN | CHARLES
HAY | KAREN | C
HAYASHI | HISAYO |
HAYASHIDA | NOBUKO |
HEINRICH | ANDREAS | JOACHIM
HERGERSBERG | CHRISTOPH | HEINRICH LUDWIG
HERTACH | KASPAR |
HIEMSTRA | NATHALIE | CATHERINE
HIGHGATE HINES | STEPHANIE | CORRINE
HILDY | PAULA | JANE
HILLER-BROUGHTON | JACQUELINE | MARY
HINDSON | ERIN | PATRICIA
HINDSON | TREVOR | DAVID
HOENIG | JULIAN | CHRISTOPH
HOEPPLI | DIETER | M
HOEPPLI BRECHBUEHL | VERENA |
HOFFMANN | JEAN | MARC HENRI
HOLLMAN | DIANE | MARIE BOOT
HOLLMAN | TERRENCE | CHRISTOPHER
HOMAYOUNI | ALIREZA |
HORNE | DOROTHY | ANNE
HOU | HANRU |
HOWES | HELEN | A
HOYLE | DAVID | JOHN
HSU | AUSTIN |
HUANG | WEI |
HUBSHER | ROBERT | A
HUEBNER | CHRISTIANE | JUSTINE
HUIJGEN | RUTGER | NICOLAAS
HUMPHRIES | NICHOLAS | CHARLES
HUNG | SHAO-HUNG |
HUSCHILT | PAUL | MICHAEL
IBARAKI | MICHIKO |
ICHIKI | KEIKO |
ICHIKI | KOICHI |
IGUCHI | TADAHITO |
INGENDAHL | ANGELIKA | U
INNES | CATHERINE | MARGARET
IRISBEKOV | TALGAT |
ISHIHARA | AKIYOSHI |
ISHIKAWA | MAMI |
ISHIKAWA | YOSHINOBU |
ISOMURA | NORIHISA |
ITO | YUKI |
IWAIZUMI | MISA |
IWAIZUMI | MITSUYASU |
IYER | SOWMYA | RAMANI
JACOBSEN | LORI | HELEN
JAKOBSSON | ANNA-MARIA | MAGDALENA
JAMES | ADRIAN | CHARLES
JHAVERI | HARSH |
JIANG | GONGSHENG |
JIANG | MUCHUAN |
JORDAN | CALLY | E
JORDAN | ROBERT | J
JORDAN | TOBIAS |
JOUANNO | EVELINE | NATHATLIE ANDREE
JUBENVILLE | FIONA | M
KADOTA | HARUMI |
KALIL | SANDRA |
KALISKI | SUSAN | MARIA
KAMBE | TAKEHIKO |
KAMBE | YOKO |
KAMPE | JOHAN | MIKAEL AKE
KAMPEN | FRANK | THEODORE
KARAKAS | OGUZHAN |
KATO | RIE |
KATSUMA | TAKASHI |
KAWAKAMI | FUMIKO |
KE | LIN |
KEAN | SIMON | JOHN
KENDRICK | DONALD | GEOFFREY
KESTER | SUSAN | MARY
KHINAST | JOHANNES | GREGOR
KIELTY | ANDREW |
KIELTY | SUSANNA | MARIA
KIGUCHI | YUMIKO |
KIM | SEHEE |
KIM | SINAE |
KING | LUCY | AMANDA
KITTSON | PAUL | DONOVAN
KOESTLBAUER | JOHANNA | E
KOLT | SYLVIA | MARLENE
KOTSOPOULOS | JAMES |
KRANTZ | MATTHIAS | CHRISTIAN
KRUNGLEVICIUTE | VAIVA |
KUGITA | AKIKO |
KUMAGAI | JUNKO |
KUMAGAI | YOSHIHIRO |
LAHERA | NICHOLAS |
LAN | SHU | LIN
LAUTER | SENTA | MONIKA
LAWLESS | CATHERINE | E
LAWLESS | ROBERT | J
LAWLOR-HAWKINS | MARY | HELENA
LAZZER | BARRY | NEIL
LEBLANC | ANDRE | J
LEE | GUY |
LEE | HOON | KOOG
LEE | JONGHO |
LEE | JYH-EN |
LEE | KATHERINE | L
LEEGSTRA | SASKIA | A.
LEES | MONICA | N
LESSA | ANA | BEATRIZ
LETTIERI-BECK | ANNA |
LEUNISSEN | SERGIO | A
LEWIS | RALPH | CARSTEN
LINDSTROEM | SIGNE | ULRIKA
LISSI | ELENA |
LIU | HUI |
LLOTT | WENDY | K
LONG | DENISE | THERESE
LOPEZ MEJIA | ENRIQUE |
LOUNDS | ANDREW | CHARLES
LOZOVIK | YEVGENIY | L
LU | JACQUELINE | WEN TING
LU | PEIQI |
LU | SHIYU |
LU | YUNQIANG |
LUBAVIN | DANIEL |
LUEDTKE | MARTGIN | ECKEHARD
LUEDTKE | SISSEL |
LUGERT | CHRIS | SANDRO
LUK | KIN | CHUNG
MAMILLAPALLE | NAGA | LAKSHMI
MANIAN | SHANKAR |
MANN | GARY | MICHAEL
MARCHETTI | KAREN |
MARILL | PHILIPPE | ROBERT
MARLAND | PHILIPPA |
MARRIOTT | IVETTE |
MATSUO | SHOI |
MATSUOKA | CHIAKI |
MATTHEWS | HILARY | SUSAN
MATTHEWS | JUDITH | MARIE
MAUERHOFER | KATHARINA | A
MAY | BRIAN | WILLIAM
MAYR | MICHAEL | ANDREAS SYLVESTER
MCARTHUR | ROBERT | JAMES
MCAULIFFE | IAN | MARK
MCKEAN | GERALDINE | ELIZABETH
MENDELSON | PRISCILLA | LOUISE
MEULEMA | ELIZABETH | MARIA
MEYBAUM | LAURA |
MEYBAUM | MONA |
MEYER | MICHAEL |
MEYER | ROLF | WILHELM
MILLER | GREGORY | CHARLES
MILLOT | BENOIT |
MIYANO | YOKO |
MIYASAKA | SATOSHI |
MOERSCHEL | MATHIAS | PETER
MOFFATT | NICHOLAS | HUNTER
MOLLOY | SCOTT | L
MONAHAN | CATHERINE | G
MONTGOMERY | JOHN | YOUNG
MONTGOMERY | MARGARET | JANE
MOODYCLIFFE | TIMOTHY | IAN
MORE | DWIGHT | EVAN
MORIKAWA | YUKO |
MORITA | KENSEI |
MORITA | MINOBU |
MORRIS | WAYNE | ANTHONY
MORTON | STEPHEN | CHARLES
MOSCHITZ | JULIUS |
MOTT | SPENCER | J
MOULD | ANDREW | PETER
MUELLER | MAYA | ALENA
MUELLER | ROOPINDER | J
MUELLER | RUDOLF | PAUL
MULVEY | DANIEL | J
MURATA | AKIHIRO |
MURATA | TOMOKO |
MUSHKIN | STANISLAV |
MYERS | LINDSAY | D
NAAZ | AFSHAN |
NAGASUBRAMANIAN | HARIPRIYA |
NAKAGAWA | TSUTOMU |
NAKAMURA | KAORU |
NEISH | STEPHEN | ANDREW
NESS | GAYLE | HEATHER
NEWLANDS | ELSPETH | LAURIE
NG | CHEE | C
NICHOLS | KEVIN | WILLIAM
NICHOLS-GOUDSMID | JOYCE |
NIEDERHAUSER | VERENA |
NIEDERHAUSER | WALTER |
NOEL | JEAN-FRANCOIS | G
NOORDERMEER | MARCEL | PETER ALEXANDER
NORTON | SINDEN | MARIE
NOVO | LUIS | FERNANDO MENDES MARQUES
NUNN | DAVID | PHILIP
OFFNER | JAN | E
OH | OCK | JA
OHARA | MASAYO |
OHNSTAD | MIKAL |
OKI | JUNJI |
OKI | MIEKO |
OLSSON | CARMEN | SORAJA
OLSSON | JENS | MARCUS
OP DEN CAMP | JOHN | V
ORMEN DELLA CORTE | HANDE |
ORTEGA | SEBASTIAN |
OWEN | ALEXANDRA |
OWEN | DAVID | BARRIE
PAENAKHORN | AMORN |
PAK | YOUNKUY |
PALSTRA | THOMAS | T
PAQUIN-COUTU | LISE |
PARENT | MARC |
PARK | SEON | YEONG
PARK | YOUNG | SOO
PARKES | ANDREW | JOHN
PARTCH | RONALD | MAURICE
PAUL | NILS | KARL
PEACOCK | MARK | ROBERT
PEDERSEN | HEINER | NIELS
PERMAN | GEORGE | RAYMOND
PETTY | RUTA |
PHILLIPS | NANCY | LOUISE
PHILLIPS | ROSELYN | O
PHILLIPS | SAYOKO |
PIEDIMONTE BODINI | ANDREA |
PIPER | MAUREEN | ANNE
PLASTERS | STACEY | DORANN
POWELL | DEBORAH | JOAN
POWELL | JAMES | T
PRAVETZ | JAMES | DAVID
PRECHT | EVA | ELISABETH
PRUTTON | SUSAN |
PUTLITZ | TILLMANN |
QUINN | KATHI | SUE
RAFAILIDIS | THEMISTOKLIS |
RAFN | MATHIAS | WILLIAM
RANCOURT | LOUISE |
RASHEVSKY | VLADISLAV |
REIDY | JAMES | DALE
RENAULT BENHADDAD | GENEVIEVE | C
RENSHAW | SIMON | JOHN
RICHARDSON | JAMES | ANTHONY
ROBBIANI | DAVIDE |
ROBERT | CATHERINE |
ROBERTSON | DONALD | J
ROBINSON | SHAUN | A
ROELL | CASPAR | ROBERT DEAN
ROPERS | MEIKE |
ROSE | KIM | SHARON
ROSS | IAN | FRASER
RUSSELL | IRENE | E
RYDER-COOK | ALLAN | S
SABATINI | ANNETTE | STELLA
SAITO | YUMI |
SALIM | SONIA |
SALVATORE | JULIA |
SAMOU | JEAN | BLAISE
SAMPSON | ADRIAN | DEREK
SAN MIGUEL GIL | IGNACIO |
SANCHEZ | JENNIFER | MARGARET
SANTRAC | SLOBODAN |
SARATHY | SARASWATHI |
SASAKI | AKIKO |
SASAKI | YUKIO |
SATO | KAZUKO |
SAUER | MILTON | DWIGHT
SAUNDERS | GEORGE |
SCHERBAUM | CHRISTINE | AGNES
SCHMALZ | RACHEL | SUZANNE
SCHOENTHAL | NORA |
SCHOUTEN | DIRK | JAN
SCHROYENS | DANIEL | EDWARD
SCHUMANN | DIRK |
SCHWETHELM | LUKAS | DANIEL
SCURFIELD | PAUL | M
SEHN | JODI | MARIA
SENG | KHENG | HWA
SENG | MARVIN |
SERRATT | DON | MARK
SHAKED | RIVI |
SHALLWANI | SADAF |
SHAPIRO | LAWRENCE | CYRIL
SHELBOURNE | JULIAN | PETER
SHIBULAL | SHRUTI |
SHIMA | TEPPEI |
SHIMIZU | AYAKO |
SHIOTA | KAZUAKI |
SIEBEL | EDWIN | ALEXANDER
SIN | YOUNG | DAE
SINGER | NATHALIE | FRIDA
SIOMS | MARIA | FIONA
SLITER | SANDRA | LYNN
SMITH | ALASTAIR | JOHN
SMITH | ERIN | CHARLOTTE
SMITH | TANIA | M
SPENCE HIRSH | HELEN | JOAN
STAMBOULI | YOUCEF |
STAMENOV | VALERIY | P
STANDART | SALLY |
STROFFEKOVA POLAKOVA | KATARINA |
STUMP | DAVID | M
SULLIVAN | MICHAEL | JOHN
SUTER | KARIN | M
TAKAHASHI | AKIKO |
TAKAHASHI | GAYLE | JOY
TAKAHASHI | YOKO | T
TAKAISHI | HIDEYA |
TAMAI | AYAKO |
TANAKA | TOSHIYUKI |
TANG | ERQING |
TANGUAY | MARYSE |
TEMELKURAN | BARIS |
THOM | JAMES | COLIN
THOMAS | SUSAN | R
THOMAS | YOSHIKO |
THORING | CODY |
TITZE | CHRISTIAN | ANDREAS
TORIDE | MARIKO |
TOSA | SACHIKO |
TRYHORN | LEE | MICHELLE
TSUEI | LIH LIH |
TURNBULL | KARIN | CHISHOLM
ULMER-HAEDERLI | SUSANNE | ELISABETH
UNCLES | STEFANIE | JUTTA
VAJK LE GALL | MOIRA | SUZANNE
VAN DEN BRINK | JEAN-MARCUS |
VAN DEN HAM | CORNELUS | JAN PETRUS
VAN GENT | PETRA | MARIANNE
VAN GENT | ROBERTUS | WILHELMUS
VAN LOON | KAREL | A J
VAN ZELM | BAS | BENJAMIN
VELEV | DIMITAR | VASILEV
VERNON | ADELE | ANNE
VERSAVEL | MARIA | A
VICAT-BLANC | PASCALE | SIMONE
VILANOVA | MARIA |
VON FELTEN | DOMINIC |
VON MALTZAHN | CHRISTOPHER | EBERHARD FREIHERR
VROMEN | EDWARD | GUILLAUME HELENE
WADA | AIKO |
WADA | HIDEAKI |
WAGNER | MARIA | TROKOUDES
WAJS | RICHARD |
WALLOP WILIAM-POWLETT | PATRICK | HENRY
WALTON | CONNER | RITCHIE
WANG | DANWEI |
WANG | JUNXIAO |
WANG | YA |
WARKENTIN | MICHAEL | LINH
WATANABE | MOEKA |
WATSON | KAREN | FRANCES
WEIR | DONALD | FREDERICK
WENDEL | CARINA |
WESTER | DANIEL | J
WILCOX | KAYLA | ANNE
WILCOX | LEIGH |
WILSON | HELEN |
WILSON | ROBERT |
WINTERNITZ | CHARLEY | ROSE
WISEMAN | MAUREEN | SUSAN
WOIWODE | YOSHIKO |
WOO | CHUL | HEE
WORTHMANN | PATRIK |
WRIGHT | MATTHEW | PATRICK
XAVIER | AROKIA | INIAN
XUE | CHUN |
YAMADA | YASHUISA |
YAMAMOTO | REIKO |
YAMAMOTO | TSUNEYUKI |
YANG | HONG |
YANG | SHIN-YA | E
YASUKAWA | TOMOKO |
YIP | KONG | LOONG JEFFREY
YONG | KRISTEN | JANE
YOON | HANGKEE |
YOSHIDA | AKINORI |
YOSHIDA | AKIRA |
YOSHIDA | HANAE |
YOSHIDA | KENJI |
YOSHIDA | NATSUYO |
YOUK | JUNG | SIM
YOUNGER | BRETT | CARSON
YUSUF | HUMA |
ZACHARIAS | MARC |
ZAIMOKUYA | KINUKO |
ZAPATA | MARCO |
ZEHAVI | LIMOR | HADAS
ZHANG | BOYAN |
ZHANG | FAN |
ZHANG | JING |
ZHANG | XINRU |
ZHANG | YINGLU |
ZHOU | SIYUAN |
ZIPPLIESS | HANS | FRANK

Dated: April 20, 2022.
Steven B. Levine,
Manager Team 1940, CSDC—Compliance Support, Development & Communications, LB&I: WEIIC: IIC: T4.

[FR Doc. 2022-08809 Filed 4-25-22; 8:45 am]

BILLING CODE 4830-01-P